DEPARTMENT OF COMMERCE

National Oceanic and Atmospheric Administration

[I.D. 011107B]

Endangered and Threatened Species; Take of Anadromous Fish

AGENCY: National Marine Fisheries Service (NMFS), National Oceanic and Atmospheric Administration (NOAA), Department of Commerce.

ACTION: Receipt of application for research permit 1597 and request for comment.

SUMMARY: Notice is hereby given that NMFS has received an ESA application for a Section 10 permit for scientific research from Mr. David A. Vogel, Natural Resource Scientists in Red Bluff, CA. This notice is relevant to Federally endangered Sacramento River winter-run Chinook salmon (Oncorhynchus tshawytscha), threatened Central Valley spring-run Chinook salmon (O. tshawytscha), threatened Central Valley steelhead (O. mykiss), and threatened Southern Distinct Population Segment of North American green sturgeon (Acipenser medirostris). This document serves to notify the public of the availability of the permit applications for review and comment.

DATES: Written comments on the permit application must be received at the appropriate address or fax number (see ADDRESSES) no later than 5 p.m. Pacific Standard Time on February 21, 2007.

ADDRESSES: Written comments on the permit application should be sent to the appropriate office as indicated below. Comments may also be sent via e-mail to FRNpermit.sac@noaa.gov or fax to the number indicated for the request. The application and related documents are available for review by appointment: Protected Resources Division, NMFS, 650 Capitol Mall, Suite 8-300, Sacramento, CA 95814 (ph: 916-930-3615, fax: 916-930-3629).

FOR FURTHER INFORMATION CONTACT: Russell Bellmer, Ph.D. at phone number 916-930-3615, or e-mail: FRNpermit.sac@noaa.gov.

SUPPLEMENTARY INFORMATION:

Authority

Issuance of permits and permit modifications, as required by the Endangered Species Act of 1973 (16 U.S.C. 1531 1543) (ESA), is based on a finding that such permits/modifications: (1) Are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such a hearing is at the discretion of the Assistant Administrator for Fisheries, NMFS. All statements and opinions contained in the permit action summaries are those of the applicant and do not necessarily reflect the views of NMFS.

Species Covered in This Notice

This notice is relevant to Federally endangered Sacramento River winter-run Chinook salmon (Oncorhynchus tshawytscha), threatened Central Valley spring-run Chinook salmon (O. tshawytscha), threatened Central Valley steelhead (O. mykiss), and threatened Southern Distinct Population Segment of North American green sturgeon (Acipenser medirostris).

Applications Received

Mr. David A. Vogel requests a 2-year permit 1597 for an estimated take of 7,313 juvenile winter-run Chinook Salmon, 1,802 juvenile spring-run Chinook Salmon, and 204 juvenile Central Valley steelhead per year to quantified site-specific characteristics at each of 4 pre-selected diversion sites to fish entrainment. This research will correlate fish entrainment with physical, hydraulic, and habitat variables during irrigation diversion periods over a two-year period. Mr. Vogel requests authorization for an estimated total take of 9,319 juveniles (with 100 percent incidental mortality) per year resulting from the collection of fish diverted out of their natural habitat. Sampling will be continuously from April 1 through October 31 each year for two years at the RD 108 Tyndall Mound Diversion (lat. 38°54′30″ N, long. 121°48′42″ W), RD 108 Howell's Landing Diversion (lat. 38° 55′44′ N, long. 121° 50′14″ W), RD 108 Boyers Bend Diversion (lat. 38°57′15″ N, long. 121°50′27″ W), and Feather Water District North Diversion (lat. 39°02′44″ N, long. 121°36′37″ W) located in the Sacramento and Feather Rivers. If any listed species are collected alive they will be immediately returned into rivers outside the influence of the diversion pumps. Individuals are measured and identified to species or run. Mr. Vogel will take a total of 192 juveniles of the threatened Southern Distinct Population Segment of North American green sturgeon (with 100 percent incidental mortality). This research will provide information to natural resource managers in the implementation of the Central Valley Project Fish Screen Program to better protect listed species.

Dated: January 12, 2007.
Angela Somma,
Chief, Endangered Species Division, Office of Protected Resources, National Marine Fisheries Service.

[FR Doc. E7-748 Filed 1-19-07; 8:45 am]

BILLING CODE 3510-22-S